ENVIRONMENTAL PROTECTION AGENCY

40 CFR Part 63

[FRL-7385-9]

RIN 2060-AG87

National Emission Standards for Hazardous Air Pollutants for Friction Materials Manufacturing Facilities

AGENCY: Environmental Protection Agency (EPA).

ACTION: Final rule.

SUMMARY: This action promulgates national emission standards for hazardous air pollutants (NESHAP) for new and existing friction materials manufacturing facilities. Some of these facilities, specifically those that perform solvent mixing, have been identified as major sources of hazardous air pollutants (HAP) including n-hexane, toluene, and trichloroethylene. Exposure to these substances has been demonstrated to cause adverse health effects such as irritation of the lungs, skin, mucous membranes, and effects on the central nervous system, liver, and kidney.

Today's final rule will implement section 112(d) of the Clean Air Act (CAA) by requiring all major sources to meet HAP emission standards reflecting the application of the maximum achievable control technology (MACT). Implementation of today's final rule will reduce HAP emissions by approximately 290 tons per year (tpy).

EFFECTIVE DATE: October 18, 2002.

ADDRESSES: Docket No. A-97-57 contains supporting information used in developing the final rule. The docket is located at the Air and Radiation Docket and Information Center in the EPA Docket Center, (EPA/DC) EPA West, Room B102, 1301 Constitution Ave., NW, Washington, DC, and may be inspected from 8:30 a.m. to 4:30 p.m., Monday through Friday, excluding legal holidays.

FOR FURTHER INFORMATION CONTACT: For further information concerning applicability and rule determinations, contact the appropriate State or local agency representative. If no State or local representative is available, contact the EPA Regional Office staff listed in § 63.13. For information concerning the analyses performed in developing this rule, contact Kevin Cavender, U.S. Environmental Protection Agency, Office of Air Quality Planning and Standards, Emission Standards Division, Metals Group, (Mail Code 439-02), Research Triangle Park, NC 27711, telephone number (919) 541-2364, electronic mail address cavender.kevin@epa.gov.

SUPPLEMENTARY INFORMATION: Regulated Entities. Categories and entities potentially regulated by this action include those listed in the following table:

Category | NAICS code | Examples of regulated entities
Industry | 33634, 327999, 333613 | Friction materials manufacturing facilities.

This table is not intended to be exhaustive, but rather provides a guide for readers regarding entities potentially regulated by this action. To determine whether your facility is regulated by this action, you should examine the applicability criteria in § 63.9485 of today's final rule. If you have any questions regarding the applicability of this action to a particular entity, consult the person listed in the preceding FOR FURTHER INFORMATION CONTACT section.

Judicial Review. The NESHAP for friction materials manufacturing was proposed on October 4, 2001 (66 FR 50768). Today's action announces EPA's final decisions on the rule. Under section 307(b)(1) of the CAA, judicial review of today's final rule is available by filing a petition for review in the U.S. Court of Appeals for the District of Columbia Circuit by December 17, 2002. Only those objections to this rule which were raised with reasonable specificity during the period for public comment may be raised during judicial review. Under section 307(b)(2) of the CAA, the requirements that are the subject of today's final rule may not be challenged later in civil or criminal proceedings brought by EPA to enforce these requirements.

World Wide Web (WWW). In addition to being available in the docket, an electronic copy of today's final rule will also be available on the WWW through the Technology Transfer Network (TTN). Following the Administrator's signature, a copy of the final rule will be posted on the TTN's policy and guidance page for newly proposed or promulgated rules at http://www.epa.gov/ttn/oarpg. The TTN provides information and technology exchange in various areas of air pollution control. If more information regarding the TTN is needed, call the TTN HELP line at (919) 541-5384.

Outline. The information presented in this preamble is organized as follows:

I. Background and Public Participation

A. What is the statutory authority for NESHAP?

B. What criteria are used in the development of NESHAP?

C. How was the rule developed?

D. How can I get copies of this document and other related information?

II. Summary of the Final Rule

A. Who must comply with this rule?

B. What sources are affected?

C. What are the compliance dates?

D. What are the emission limitations?

E. What are the initial and continuous compliance requirements?

F. What are the notification, recordkeeping, and reporting requirements?

III. Summary of Major Changes Since Proposal

IV. Summary of Responses to Major Comments

A. De Minimis Use Exemption

B. MACT Standard

C. Compliance Deadline

V. Summary of Impacts

A. What are the health impacts?

B. What are the air emission reduction impacts?

C. What are the cost impacts?

D. What are the economic impacts?

E. What are the non-air quality environmental and energy impacts?

VI. Administrative Requirements

A. Executive Order 12866, Regulatory Planning and Review

B. Executive Order 13132, Federalism

C. Executive Order 13175, Consultation and Coordination with Indian Tribal Governments

D. Executive Order 13045, Protection of Children from Environmental Health Risks and Safety Risks

E. Executive Order 13211, Actions Concerning Regulations that Significantly Affect Energy Supply, Distribution, or Use

F. Unfunded Mandates Reform Act of 1995

G. Regulatory Flexibility Act (RFA), as Amended by the Small Business Regulatory Enforcement Fairness Act of 1996 (SBREFA), 5 U.S.C. 601 et seq.

H. Paperwork Reduction Act

I. National Technology Transfer and Advancement Act of 1995

J. Congressional Review Act

I. Background and Public Participation

A. What Is the Statutory Authority for NESHAP?

Section 112 of the CAA requires us to list all categories and subcategories of major sources of HAP emissions and to establish NESHAP for their control. Major sources are those that emit or have the potential to emit at least 10 tpy of any single HAP or 25 tpy of any combination of HAP. An initial list of source categories and accompanying schedules for regulation were published on December 3, 1993 (58 FR 63941). Friction materials manufacturing was not among the initially listed source categories. A subsequent notice published on June 4, 1996 (61 FR 28197) added friction products manufacturing to the list of major source categories scheduled for regulation by November 15, 2000. The listing was based on information obtained in a 1992 survey of the industry from which we concluded that some facilities that manufacture friction products have the potential to be major sources of HAP emissions. Friction products manufacturing includes facilities that manufacture, assemble, or rebuild friction products such as brakes or clutches. Based on information obtained during the development of this final rule, we have determined that only facilities that manufacture friction materials have the potential to emit HAP at major source levels. As such, this final rule will affect only friction materials manufacturers and will not affect facilities that only assemble or rebuild friction products. Friction materials manufacturing was added to the source category list on February 12, 2002 (67 FR 6521), replacing friction products manufacturing.

B. What Criteria Are Used in the Development of NESHAP?

Section 112 of the CAA requires that we establish NESHAP for the control of HAP from both new and existing major sources. The CAA requires the NESHAP to reflect the maximum degree of reduction of HAP emissions that is achievable. This level of control is commonly referred to as MACT.

The MACT floor is the minimum control level allowed for NESHAP and is defined under section 112(d)(3) of the CAA. In essence, the MACT floor ensures that the standard is set at a level that assures that all major sources achieve the level of control at least as stringent as that already achieved by the better-controlled and lower-emitting sources in each source category or subcategory. For new sources, the MACT floor cannot be less stringent than the emission control that is achieved in practice by the best-controlled similar source. The MACT standards for existing sources can be less stringent than the standards for new sources, but they cannot be less stringent than the average emission limitation achieved by the best-performing 12 percent of existing sources for categories or subcategories with 30 or more sources (or the best-performing five sources for categories or subcategories with fewer than 30 sources) (CAA section 112(d)(3)).

In developing MACT, we also consider control options that are more stringent than the floor. We may establish standards more stringent than the floor taking into consideration the cost of achieving the emission reductions, any non-air quality health and environmental impacts, and energy requirements (CAA section 112(d)(2).

C. How Was the Rule Developed?

We proposed the NESHAP for friction materials manufacturing on October 4, 2001 (66 FR 50768). The preamble for the proposed standards described the rationale for the proposed standards. Public comments were solicited at the time of proposal. The public comment period lasted from October 4, 2001 to December 3, 2001. Industry representatives, regulatory agencies, environmental groups, and the general public were given the opportunity to comment on the proposed rule and to provide additional information during the public comment period. Although we offered at proposal the opportunity for oral presentation of data, views, or arguments concerning the proposed rule, no one requested a hearing, and a hearing was not held.

We received a total of four letters containing comments on the proposed rule during and after the public comment period. Commenters included a Federal government agency, a law firm representing a friction materials manufacturing company, and an industry trade association. Today's final rule reflects our full consideration of all of the comments received. Major public comments on the proposed rule, along with our responses to those comments, are summarized in this preamble.

D. How Can I Get Copies of This Document and Other Related Information?

EPA has established an official public docket for this action under Docket ID No. A-97-57. The official public docket is the collection of materials that is available for public viewing at the Air and Radiation Docket and Information Center in the EPA Docket Center, (EPA/DC) EPA West, Room B102, 1301 Constitution Ave., NW, Washington, DC. The EPA Docket Center Public Reading Room is open from 8:30 a.m. to 4:30 p.m., Monday through Friday, excluding legal holidays. The telephone number for the Reading Room is (202) 566-1742, and the telephone number for the Air and Radiation Docket and Information Center is (202) 566-1742).

You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the Air and Radiation Docket and Information Center. Once in the system, select “search,” then key in the appropriate docket identification number.

II. Summary of the Final Rule

This section presents a summary of the requirements of today's final rule.

A. Who Must Comply With This Rule?

The final rule applies to any owner or operator of a friction materials manufacturing facility that is, or is part of, a major source of HAP emissions. Friction materials manufacturing includes any facility engaged in the manufacture of friction materials such as brake and clutch linings.

B. What Sources Are Affected?

The final rule affects each existing or new solvent mixer at a friction materials manufacturing facility which uses a solvent in their mixer that contains one or more HAP as an ingredient to the friction material composition.

C. What Are the Compliance Dates?

All existing affected sources must be in compliance no later than October 18, 2005. An affected source is an existing source if its construction began before October 4, 2001. A new or reconstructed affected source with an initial start up date on or after October 4, 2001, but before October 18, 2002 must be in compliance by October 18, 2002. A new or reconstructed source with an initial start up date after October 18, 2002 must be in compliance upon initial start up. An affected source is considered reconstructed if it meets definition of “reconstruction” in 40 CFR 63.2.

D. What Are the Emission Limitations?

Today's final rule will require owners or operators of new and existing large solvent mixers to limit emissions of total organic HAP discharged to the atmosphere to 30 percent or less of that which would otherwise be emitted in the absence of solvent recovery and/or solvent substitution, based on a 7-day block average. Owners or operators of new and existing small solvent mixers will be required to limit emissions of total organic HAP discharged to the atmosphere to 15 percent or less of that which would otherwise be emitted in the absence of solvent recovery and/or solvent substitution, based on a 7-day block average.

E. What Are the Initial and Continuous Compliance Requirements?

For owners or operators of solvent mixers using a solvent recovery system, initial compliance will be determined by measuring and recording the weight of solvent added to each affected mixer and the weight of solvent recovered for each mix batch over the first 7 consecutive days after the compliance date. For owners or operators of solvent mixers using solvent substitution, initial compliance will be determined by recording the use of a non-HAP material as a substitute for a HAP solvent for each mix batch. For owners or operators of new and existing large solvent mixers, initial compliance is demonstrated if the average amount of solvent discharged to the atmosphere recorded for each mix batch over the 7-day period does not exceed 30 percent of that which would otherwise be emitted in the absence of solvent recovery and/or solvent substitution. For owners or operators of new and existing small solvent mixers, initial compliance is demonstrated if the average amount of solvent discharged to the atmosphere recorded for each mix batch over the 7-day period does not exceed 15 percent of that which would otherwise be emitted in the absence of solvent recovery and/or solvent substitution. Today's final rule also includes performance specifications for the weight measurement device as well as procedures for conducting the measurements and computing the results.

For owners or operators of solvent mixers using a solvent recovery system, continuous compliance will be determined by continuing to measure and record the weight of solvent added to each affected mixer and the weight of solvent recovered for each mix batch. For owners or operators of solvent mixers using solvent substitution, continuous compliance will be determined by continuing to record the use of a non-HAP material as a substitute for HAP solvent for each mix batch. For owners or operators of new and existing large solvent mixers, continuous compliance is demonstrated by maintaining each 7-day block average at or below 30 percent of that which would otherwise be emitted in the absence of solvent recovery and/or solvent substitution. For owners or operators of new and existing small solvent mixers, continuous compliance is demonstrated by maintaining each 7-day block average at or below 15 percent of that which would otherwise be emitted in the absence of solvent recovery and/or solvent substitution.

F. What Are the Notification, Recordkeeping, and Reporting Requirements?

The notification, recordkeeping, and reporting requirements in today's final rule rely on the NESHAP General Provisions in 40 CFR part 63, subpart A. Table 1 in the final rule shows each of the requirements in the General Provisions (§§ 63.2 through 63.15) and whether they apply.

Under the final rule, owners or operators subject to these standards must submit each of the notifications contained in the General Provisions that applies to them. These include an initial notification of applicability, which for existing sources is required within 120 days of the promulgation date; and a notification of compliance status, which must be submitted before the close of business on the 30th calendar day following the completion of the initial compliance demonstration.

In addition, owners or operators subject to these standards will need to prepare and maintain all records required by the General Provisions to document compliance with each enforceable provision of the proposed rule. Records needed to show continuous compliance with the emission limitation in the final rule are to be kept for 5 years.

We are also requiring owners or operators of all affected sources to submit semiannual compliance reports which highlight any deviations from the emission limitation and other provisions of the final rule. Each report will be due no later than 30 days after the end of the reporting period. If no deviations occurred, owners or operators are only required to submit a statement that there were no deviations from the emission limitation during the reporting period. More detailed information will be required, as specified in the final rule, if a deviation occurred or there was a startup, shutdown, or malfunction event. Owners or operators must submit an immediate report if they undertake actions during a startup, shutdown, or malfunction that are inconsistent with the procedures in their approved startup, shutdown, and malfunction plan, required by § 63.6(e)(3) of the General Provisions. Deviations that occur during a period of startup, shutdown, or malfunction are not violations if the owner or operator demonstrates to our satisfaction that the affected source was operating in accordance with the startup, shutdown, and malfunction plan.

III. Summary of Major Changes Since Proposal

This section describes the major changes made to the proposed rule based on public comments. We extended the compliance period for existing sources from 2 years to 3 years. We subcategorized the friction materials manufacturing source category into small and large solvent mixer subcategories and established new MACT floor and beyond-the-floor control options for those subcategories. We chose the MACT floor option of 70 percent emission reduction as the standard for new and existing large solvent mixers and the beyond-the-floor option of 85 percent emission reduction as the standard for new and existing small solvent mixers. We now allow owners and operators the option of complying with the standards by using solvent recovery, as proposed, or substitution to a non-HAP containing solvent. We revised the initial and continuous compliance requirements to reflect the change in standards. We also added definitions for small solvent mixer, large solvent mixer, and solvent substitution.

IV. Summary of Responses to Major Comments

This section summarizes the major comments we received on the proposed rule and our responses to those comments. A more comprehensive summary of comments and responses can be found in Docket No. A-97-57.

A. De Minimis Use Exemption

Comment: One commenter recommended that the final rule clarify the intended applicability of the rule by including a de minimis use (production) exemption that would exempt from the standard facilities that produce very small amounts of friction material.

Response: A follow-up contact with the commenter revealed that the commenter's concerns are based on research and development (R&D) activities. Because § 63.9485(b) of the rule includes an exemption for R&D facilities, as they are defined in section 112(c)(7) of the CAA, any R&D activities related to friction materials would not be covered under the friction materials manufacturing NESHAP. As such, no change has been made in the final rule to address this comment.

B. MACT Standard

1. Additional Emission Reductions

Comment: One commenter noted that the proposed rule affects only a few sources and will reduce baseline HAP emissions from the industry by only 50 percent, allowing 330 tpy of emissions to not be recovered through implementation of the proposed rule. The commenter stated that it was troubling that the proposal did not include a mechanism for addressing these remaining emissions.

Response: Emissions due to the use of HAP solvents in solvent mixing operations account for 99 percent of the baseline HAP emissions. The emission standards contained in both the proposed rule and the final rule are based on what we believe to be the maximum technically and economically feasible level of emissions control achievable for solvent mixers. As such, the rule effectively addresses the solvent mixing component of HAP emissions from friction materials manufacturing. However, fugitive emissions resulting from the residual solvent in the mixed material, which accounts for approximately 70 percent of the estimated HAP emissions that will remain once the final rule is implemented, are not addressed. These emissions occur in later process equipment (extruders, granulators, dryers, hot presses, and curing ovens.) None of these pieces of equipment are currently equipped with HAP emission controls. Therefore, the MACT floor is no additional emission reduction for these sources. The commenter did not provide any data that would indicate that control of these fugitive sources would be economically feasible, and we do not believe that it would be cost-effective to capture and control the fugitive emissions from these sources. For these reasons, we have decided, as proposed, not to regulate these sources. No change has been made in the final rule to address this comment.

2. Consideration of Mixer Type/Configuration and Cost of Compliance

Comment: According to one commenter, the proposed rule is factually flawed because it fails to account for the type and configuration of three of the mixers currently operated by the commenter's facility, which constitute 50 percent of the facility's operations. The commenter noted that these three small solvent mixers do not perform the mixing and drying in an enclosed space amenable to complete capture of VOC emissions, in contrast to the Plant A mixer used by EPA to establish MACT. The commenter stated that the proposed rule incorrectly assumes that all mixers in the industry can be retrofitted relatively easily with VOC capture and recovery systems.

The commenter stated that it would be impossible, due to design and process parameters, to control the emissions from these three small uncontrolled mixers to achieve the proposed 85 percent overall standard. According to the commenter, the two major components of the three small uncontrolled mixers (mixing bowl and mixing assembly) are separate from each other, unlike the fourth mixer at the facility (and more typical of the industry) in which the mixing assembly is integral to the mixing bowl. In the case of the three small uncontrolled mixers, materials are dumped into the mixing bowl, the bowl is rolled under the mixing assembly, and the assembly is lowered and raised pneumatically in and out of the mixing bowl as needed. According to the commenter, the presence of the mixing assembly makes it impossible to get an acceptable vacuum seal to extract solvent vapors during the mixing process. The commenter stated that it would be very difficult if not impossible to install capture devices on the mixer, extrusion, and conveying processes to achieve the required minimum 90 percent capture efficiency. The commenter argued that the engineering obstacles to retrofitting the three small uncontrolled mixers with emission controls are so severe that the three mixers would need to be replaced under any scenario, at very substantial cost.

Response: We agree with the commenter that the proposed rule did not account for the cost to replace the existing small solvent mixers in order for the facility to meet the required 85 percent standard for small solvent mixers. In addition, we agree that because of their configuration, the small solvent mixers cannot be retrofitted with a system to capture and recover the hexane solvent, and, therefore, must be replaced. Based on information we have received from the commenter, we have revised our cost estimates for the final rule to include the cost for a new large solvent mixer to replace the existing small solvent mixers, as well as a solvent recovery system. We now estimate a capital cost of approximately $900,000, an annual cost of approximately $115,000 (without recovery credits, i.e., the value of the recovered solvent), and an annual cost credit of approximately $15,600 (with recovery credits) for the commenter's facility to achieve the required 70 percent emission reduction for the new large solvent mixer. For monitoring, recordkeeping, and reporting, we estimate a capital cost of approximately $2,300 and an annual cost of approximately $12,000. Overall, we estimate a total annual cost of approximately $126,000 (without recovery credits) and an annual cost credit of approximately $3,600 (with recovery credits).

Based on 70 percent reduction of uncontrolled emissions for the new large solvent mixer, we estimate an emission reduction of approximately 250 tpy. Using these cost and emission reduction values, we estimate a cost per ton of approximately $500/ton (without recovery credits) and a cost per ton credit of approximately $14/ton (with recovery credits). Based on these low cost per ton values, we conclude that replacing the existing small solvent mixers and with a large solvent mixer and installing a solvent recovery system (condenser) capable of meeting the required 70 percent standard for large mixers is cost-effective. The associated secondary air impacts and energy impacts are also estimated to be low; secondary emissions are less than 3 tpy, and energy impacts are only approximately 1,100 million Btu/yr. No change has been made in the final rule to address this comment.

3. Assumed Mixer Size

Comment: One commenter disagreed with EPA's premise (described below) for using Plant A's vacuum system efficiency in determining MACT for the proposed rule. As noted by the commenter, the proposed rule states that vacuum systems remove solvents from the mixed material by evaporation at low pressure, so the higher the volatility of the solvent, the more easily it can be removed by a vacuum system. The proposal preamble states that, of the solvents used, hexane is the most volatile, while toluene is the least volatile. The preamble also indicates that, based on the available data, Plant A's vacuum system efficiency of 95 percent is the best of the existing systems. Because Plant A also uses the least volatile solvent, the proposed rule assumes that a vacuum system efficiency of 95 percent can be achieved for all three of the solvents used at the existing facilities. The commenter argued that this premise neglects other parameters, such as mixer size, mixer cycle, mixer type, or differences in product chemistry.

The commenter stated that EPA incorrectly assumed that typical mixer batch sizes range from 300 to 1,000 pounds of material. Based on information the commenter obtained from the docket, the commenter estimated that the weight of a typical batch at Plant A is 331 pounds (including solvent). The commenter contrasted this amount with the 3,300 pounds (not including solvent) commonly mixed in one of the mixers at the commenter's facility, concluding that the subject mixer at the commenter's facility is about 10 times larger than the mixer at Plant A.

The commenter argued that, when large batches are mixed, less solvent is volatilized in the mixer, and VOC capture is reduced. According to the commenter, operational experience at the commenter's facility indicates that larger batches generate more internal heat than smaller batches. The commenter pointed out that excess heat, if not properly controlled, would begin to cure the mix and make it unusable. As a result, the potential for heat generation limits the ability to remove solvent in the facility's large mixer.

In addition, the commenter noted that it is significantly harder to remove VOC solvent in a larger solvent mixer than a smaller solvent mixer per unit time. The commenter pointed out that drying rates decrease linearly with time, and a larger volume of identical materials would take a longer period of time to achieve the same level of dryness. According to the commenter, drying theories suggest that internal diffusion and/or internal capillary effects limit the drying process. The commenter pointed out that in drying, it is necessary to remove free moisture from both the surface and the interior of the material. As free moisture is removed from the surface of the material, the rate of drying is constant, but when the surface can no longer supply sufficient free moisture, the rate of drying falls. The drying rate is then limited by the time it takes for the moisture to migrate from the interior of the material to the surface. The commenter believes that the further the solvent has to travel to the surface, the longer it will take or the harder it will be to remove. The commenter argued that the larger the mixer, the larger the mass of material, and the larger the mass of material, the farther the interior solvent content will have to travel, and the harder it will be to remove that solvent.

The commenter argued that the distinction in mixer size is fundamental and that finalizing this MACT standard for existing sources without considering the differences in mixer size may effectively make it impossible for the commenter's facility to perform solvent mixing operations using any of its current mixers or other mixers of similar size.

Response: We agree with the commenter's argument regarding the impact of mixer size on solvent recovery. Accordingly, we have decided to subcategorize the friction materials manufacturing source category into small and large solvent mixer subcategories and have established new control options for these subcategories. For the final rule, we have chosen the beyond-the-floor option (85 percent emission reduction) as the standard for new and existing small solvent mixers and the MACT floor option (70 percent emission reduction) as the standard for new and existing large solvent mixers. For large solvent mixers, beyond-the-floor control similar to that achieved by small solvent mixers was determined to be technically infeasible. As noted in our response in section IV.C, we also have extended the compliance date for existing sources from 2 years to 3 years after the effective date.

4. Assumed Solvent Recovery Efficiency

Comment: One commenter disagreed with EPA's conclusion that the same level of solvent recovery can be achieved at the same cost for different solvent mixers using different solvents at different facilities. More specifically, the commenter expressed concern regarding the statement in the preamble to the proposed rule that the hexane removal efficiency at the commenter's facility would increase from 80 percent to 90 percent if the outlet gas temperature from the condenser was reduced from 60°F to 32°F. The commenter contends that it is impractical and erroneous to predict a condenser efficiency of 90 percent for hexane at the facility solely by lowering the outlet temperature from 60°F to 32°F. The commenter acknowledged that reducing the temperature would improve efficiency, but the commenter believes the following variables must also be taken into account: (1) Volumetric flow rate of the gas stream; (2) inlet temperature of the gas stream; (3) concentration and composition of the VOC in the gas stream; (4) moisture content of the gas stream; (5) properties of the VOC, such as heat of condensation, heat capacity, and vapor pressure; and (6) degree of subcooling (difference between the condensing temperature and the outlet temperature of the condenser exhaust).

The commenter explained that many of the materials used in brake mixes at the commenter's facility are hygroscopic or contain moisture as delivered. Because of the potential that this moisture could cause icing problems in the condenser, the facility maintains the coolant temperature at or slightly above 35°F. The commenter believes that it would be impractical or impossible to operate the existing condenser with an outlet gas temperature of 32°F because the coolant temperature would have to be below the freezing point of water.

In addition, the commenter disagrees with our position stated in the preamble to the proposed rule that establishing separate standards for individual solvents would be unwise. The commenter noted that the efficiency of a comparable condenser would be better for toluene than for hexane for the following reasons. First, a lower temperature would be needed to condense hexane than to condense toluene because hexane has a much higher vapor pressure. Second, at the facility's operating vacuum level, the boiling point of hexane is much lower than the boiling point of toluene, which means a condenser for hexane would have to operate at about −43°F to match the same amount of subcooling as a condenser for toluene operating at 32°F.

Response: We disagree with the commenter's position regarding the need for separate standards for each type of solvent. We understand that the HAP vapor pressures and specific control conditions differ for different solvents, and that, for a given condenser design and set of operating conditions, the removal efficiency would be better for toluene than for hexane. However, a properly designed and operated condenser can achieve a 90 percent removal efficiency on mixer exhausts at a reasonable cost for any of the three solvents currently being used at friction materials manufacturing facilities. Refrigerated condensers are commercially available which can reduce the exhaust temperature to well below −50°F. In addition, multi-stage condensers are available and can be used when water vapor poses a problem with water freezing on the cold condenser surfaces. No change has been made in the final rule to address this comment.

C. Compliance Deadline

Comment: One commenter noted that EPA has proposed a compliance deadline for existing sources of 2 years from the publication date of the final rule. The commenter pointed out that EPA is authorized by the CAA to set a 3-year compliance deadline (42 U.S.C. 7412(i)(3)(A)). The commenter argued that EPA's proposed 2-year compliance deadline is not based on any finding supported by the administrative record that mixers of the type and size used by the commenter's facility can achieve MACT compliance within this time frame. The commenter's facility is in the process of developing alternative manufacturing techniques which, when fully developed and implemented, would eliminate VOC emissions from the mixing operations at the facility. The commenter stated that, upon achieving this goal, the rule should no longer apply to the facility's operations.

While some of the facility's mixing operations will be converted to non-VOC emitting techniques, the commenter could not ensure that all of the unique formulations can be converted, tested, and approved for implementation by the various transportation agencies and/or boards within 2 years after publication of the final rule. According to the commenter, the proposed rule would force the facility to spend several million dollars unnecessarily if it is compelled to meet the 2-year compliance deadline and would delay the implementation of the long-term program. Based on these arguments, the commenter recommended that EPA specify a 3-year compliance deadline in the final rule.

Response: Based on information from the commenter, the uncontrolled small solvent mixers at the commenter's facility are not amenable to control and will need to be replaced. (See section IV.B.3.) The facility will need time to replace the mixers, install the necessary control equipment, and bring the system into compliance. Therefore, to provide the commenter with sufficient time to achieve compliance, we have decided to extend the compliance deadline for existing sources to 3 years, which is consistent with section 112(i)(3)(A) of the CAA. If the commenter's facility wanted to comply by using non-VOC techniques with the new solvent mixer, the 3-year compliance time should also provide the facility with sufficient time to conduct the tests and obtain the approvals necessary to implement the techniques. The existing large mixer at the commenter's facility is already in compliance with the 70 percent standard for large solvent mixers.

V. Summary of Impacts

A. What Are the Health Impacts?

The primary HAP that would be addressed by this proposed rule include n-hexane, toluene, and trichloroethylene. Each are associated with a variety of adverse health effects, including chronic health disorders (e.g., reproductive and developmental effects, and effects on the central nervous system (CNS)), and acute health disorders (e.g., irritation of the lung, skin, and mucus membranes and effects on the CNS, liver, and kidneys). Acute inhalation exposure of humans to high levels of hexane causes mild CNS effects, including dizziness, giddiness, slight nausea, and headache. Chronic exposure to hexane in air causes numbness in the extremities, muscular weakness, blurred vision, headache, and fatigue. One study reported testicular damage in rats exposed to hexane through inhalation. No information is available on the carcinogenic effects of hexane in humans or animals. We have classified hexane in Group D, not classifiable as to human carcinogenicity.

Acute and chronic inhalation exposure to trichloroethylene can affect the human CNS, producing symptoms such as dizziness, headache, confusion, euphoria, facial numbness, and weakness. High, short-term exposures to humans by inhalation have also been associated with effects on the liver, kidneys, gastrointestinal system, and skin. Human evidence is not adequate to establish a causal link between trichloroethylene exposure and cancer, but animal inhalation studies have reported increases in lung, liver, and testicular tumors. We have classified trichloroethylene as intermediate between probable and possible human carcinogen (Group B/C). We are currently reassessing its potential carcinogenicity.

Acute inhalation of toluene by humans may cause effects to the CNS, such as fatigue, sleepiness, headache, and nausea, as well as irregular heartbeat. Adverse CNS effects have been reported in chronic abusers exposed to high levels of toluene. Symptoms include tremors, decreased brain size, involuntary eye movements, and impaired speech, hearing, and vision. Chronic (long-term) inhalation exposure of humans to lower levels of toluene also causes irritation of the upper respiratory tract, eye irritation, sore throat, nausea, dizziness, headaches, and difficulty with sleep. Studies of children whose mothers were exposed to toluene by inhalation or mixed solvents during pregnancy have reported CNS problems, facial and limb abnormalities, and delayed development. However, these effects may not be attributable to toluene alone. We have classified toluene in Group D, not classifiable as to human carcinogenicity.

B. What Are the Air Emission Reduction Impacts?

Estimates of organic HAP emissions from the use of solvents are based on a mass balance using solvent usage data collected during the industry survey, estimates of solvent recovery efficiencies for existing controls, and the promulgated solvent emission limitations of 30 percent emissions (or 70 percent emission reduction) for new and existing large solvent mixers and 15 percent emissions (or 85 percent emission reduction) for new and existing small solvent mixers. We assumed that one currently uncontrolled small mixer will be fitted with a solvent recovery system, and three currently uncontrolled small mixers (which are not amenable to control) will be replaced with a new mixer, and the new mixer will be equipped with a solvent recovery system. The remaining three existing mixers (one large, two small) currently meet the promulgated standards and as such should require no additional upgrades. We estimate that today's final rule will reduce organic HAP emissions by approximately 290 tpy from a baseline level of approximately 660 tpy. Emissions of volatile organic compounds (VOC) will also be reduced by approximately 290 tpy because these HAP are also VOC.

C. What Are the Cost Impacts?

We obtained process and emissions data from the facilities with the best-controlled solvent mixers and incorporated these data into the control cost algorithms for condensers in the OAQPS Control Cost Manual. We also obtained cost data from one facility to replace existing solvent mixers not amenable to control. We then applied these costs to those facilities that we project will be impacted by today's final rule.

As stated above, we project that four mixers located at two facilities will be impacted by the final rule. To meet the promulgated standard, we assumed that one existing small mixer will be equipped with a solvent recovery system, and three existing small mixers (which are not amenable to control) will be replaced with a new mixer, and the new mixer will be equipped with a solvent recovery system. One impacted facility is assumed to incur capital costs to install one or more new mixers to meet the promulgated standard, as well as annual costs to operate and maintain the new equipment. Both impacted facilities are assumed to incur capital costs to install condensers to meet the promulgated standard, as well as annual costs to operate and maintain the condensers.

Monitoring is also an important component of MACT and the cost estimate. We expect that all four facilities affected by the final rule will incur some additional annual costs due to the monitoring, recordkeeping, and reporting requirements of the final rule.

Implementation of the final rule is expected to result in a nationwide capital cost of approximately $947,000, with total annualized costs of approximately $213,000 per year (without recovery credits) and $60,000 per year (with recovery credits).

D. What Are the Economic Impacts?

Based on the cost estimates provided above, we believe the economic impacts associated with today's final rule will be negligible. In 1992, there were 53 facilities manufacturing friction materials. Of these 53 facilities, four are affected by the final rule and will incur control and monitoring costs. When we consider the solvent recovery credits along with control technology costs, the total economic impact of this final rule is a cost to the industry of $60,000 per year, which is less than 1 percent of industry revenues. We consider impacts of less than 1 percent of industry revenues to be minor. In addition, we do not believe these impacts to be significant enough to alter the market price for friction materials.

E. What Are the Non-air Environmental and Energy Impacts?

Indirect air impacts of today's final rule will result from increased electricity usage associated with operation of control devices (i.e., condensers) installed to meet the promulgated standard. Assuming that facilities will purchase electricity from a power plant, we estimate that the final rule will increase secondary emissions of criteria pollutants from power plants by less than 3.0 tpy. These criteria pollutants include particulate matter, sulfur dioxide, nitrogen oxides, and carbon monoxide. The overall energy demand is expected to increase by approximately 40 kilowatts nationwide under the final rule. This energy demand is based on the electricity required to operate the vacuum and condenser systems needed to comply with the promulgated standard. Both the indirect air impact and energy impact are considered minor.

Because impacted facilities are expected to reuse or sell the solvent recovered by the condensers, we do not anticipate any significant wastewater or solid waste impacts as a result of the final rule.

VI. Administrative Requirements

A. Executive Order 12866, Regulatory Planning and Review

Under Executive Order 12866 (58 FR 51735, October 4, 1993), EPA must determine whether the regulatory action is “significant” and, therefore, subject to review by the Office of Management and Budget (OMB) and the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) create a serious inconsistency or otherwise interfere with an action taken or planned by another agency;

(3) materially alter the budgetary impact of entitlements, grants, user fees, or loan programs, or the rights and obligation of recipients thereof; or

(4) raise novel legal or policy issues arising out of legal mandates, the President's priorities, or the principles set forth in the Executive Order.

Pursuant to the terms of Executive Order 12866, it has been determined that this rule is not a “significant regulatory action” because none of the listed criteria apply to this action. Consequently, this action was not submitted to OMB for review under Executive Order 12866.

B. Executive Order 13132, Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the regulation. The EPA also may not issue a regulation that has federalism implications and that preempts State law unless EPA consults with State and local officials early in the process of developing the regulation.

If EPA complies by consulting, Executive Order 13132 requires EPA to provide to OMB, in a separately identified section of the preamble to the rule, a federalism summary impact statement (FSIS). The FSIS must include a description of the extent of EPA's prior consultation with State and local officials, a summary of the nature of their concerns and EPA's position supporting the need to issue the regulation, and a statement of the extent to which the concerns of State and local officials have been met. Also, when EPA transmits a draft final rule with federalism implications to OMB for review pursuant to Executive Order 12866, it must include a certification from EPA's Federalism Official stating that EPA has met the requirements of Executive Order 13132 in a meaningful and timely manner.

Today's final rule does not have federalism implications. It will not have substantial direct effects on the States, on the relationship between the national government and the States, or on the distribution of power and responsibilities among the various levels of government, as specified in Executive Order 13132. None of the affected facilities are owned or operated by State governments, and the rule requirements will not supercede State regulations that are more stringent. Thus, the requirements of Executive Order 13132 do not apply to this final rule.

C. Executive Order 13175, Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” “Policies that have tribal implications” are defined in the Executive Order to include regulations that have “substantial direct effects on one or more Indian tribes, on the relationship between the Federal government and the Indian tribes, or on the distribution of power and responsibilities between the Federal government and Indian tribes.”

Today's final rule does not have tribal implications. It will not have substantial direct effects on tribal governments, on the relationship between the Federal government and Indian tribes, or on the distribution of power and responsibilities between the Federal government and Indian tribes, as specified in Executive Order 13175. No tribal governments own or operate friction materials manufacturing facilities. Thus, Executive Order 13175 does not apply to this final rule.

D. Executive Order 13045, Protection of Children From Environmental Health Risks and Safety Risks

Executive Order 13045 (62 FR 19885, April 23, 1997) applies to any rule that: (1) Is determined to be “economically significant” as defined under Executive Order 12866, and (2) concerns an environmental health or safety risk that EPA has reason to believe may have a disproportionate effect on children. If the regulatory action meets both criteria, EPA must evaluate the environmental health or safety effects of the planned rule on children, and explain why the planned rule is preferable to other potentially effective and reasonably feasible alternatives that EPA considered.

The EPA interprets Executive Order 13045 as applying only to those regulatory actions that are based on health or safety risks, such that the analysis required under section 5-501 of the Executive Order has the potential to influence the rule. Today's final rule is not subject to Executive Order 13045 because it is based on technology performance and not on health or safety risks. No children's risk analysis was performed because no alternative technologies exist that would provide greater stringency at a reasonable cost. Furthermore, this final rule has been determined not to be “economically significant” as defined under Executive Order 12866.

E. Executive Order 13211, Actions Concerning Regulations That Significantly Affect Energy Supply, Distribution, or Use

Today's final rule is not subject to Executive Order 13211 (66 FR 28355, May 22, 2001) because it is not a significant regulatory action under Executive Order 12866.

F. Unfunded Mandates Reform Act of 1995

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or by the private sector, of $100 million or more in any 1 year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA's regulatory proposals with significant Federal intergovernmental mandates, and informing, educating, and advising small governments on compliance with the regulatory requirements.

The EPA has determined that today's final rule does not contain a Federal mandate that may result in estimated costs of $100 million or more for State, local, and tribal governments, in the aggregate, or the private sector in any 1 year. The maximum total annual cost of this proposed rule for any year has been estimated to be approximately $213,000 without solvent recovery credits and $60,000 with solvent recovery credits. Thus, this final rule is not subject to the requirements of sections 202 and 205 of the UMRA. In addition, EPA has determined that this final rule contains no regulatory requirements that might significantly or uniquely affect small governments because it contains no requirements that apply to such governments or impose obligations upon them. Therefore, today's final rule is not subject to the requirements of section 203 of the UMRA.

G. Regulatory Flexibility Act (RFA), as Amended by the Small Business Regulatory Enforcement Fairness Act of 1996 (SBREFA), 5 U.S.C. 601 et seq.

The RFA generally requires an agency to prepare a regulatory flexibility analysis for any rule subject to notice and comment rulemaking requirements under the Administrative Procedure Act or any other statute unless the agency certifies that the rule will not have a significant economic impact on a substantial number of small entities. Small entities include small businesses, small organizations, and small governmental jurisdictions.

For purposes of assessing the impacts of today's final rule on small entities, small entity is defined as: (1) A small business that has no more than 500 employees for NAICS codes 327999 and 333613 or no more than 750 employees for NAICS code 33634; (2) a small governmental jurisdiction that is a government of a city, county, town, school district, or special district with a population of less than 50,000; and (3) a small organization that is any not-for profit enterprise which is independently owned and operated and is not dominant in its field.

After considering the economic impacts of today's final rule on small entities, I certify that this action will not have a significant economic impact on a substantial number of small entities. We have determined that only one company meets one of the definitions of small entity—a small business that has no more than 500 employees for NAICS code 333613. This company owns only one of the four facilities subject to this final rule. The mixer at this facility is equipped with a solvent recovery system capable of meeting the requirements of this final rule. As such, the additional burden to this facility as a result of this final rule will only be approximately $16,400 per year for recordkeeping and reporting costs associated with demonstrating continued compliance with the final rule. There are several firms subject to this final rule whose costs will be a greater percentage of sales than this small business.

H. Paperwork Reduction Act

The information collection requirements in today's final rule will be submitted for approval to OMB under the Paperwork Reduction Act, 44 U.S.C. 3501 et seq. The EPA has prepared an Information Collection Request (ICR) document (ICR No. 2025.02), and you may obtain a copy from Sandy Farmer by mail at the Office of Environmental Information, Collection Strategies Division (2822), U.S. Environmental Protection Agency, 1200 Pennsylvania Avenue NW, Washington, DC 20460; by electronic mail at farmer.sandy@epa.gov; or by calling (202) 260-2740. You may also download a copy off the Internet at http://www.epa.gov/icr. The information requirements are not effective until OMB approves them.

The information requirements are based on notification, recordkeeping, and reporting requirements in the NESHAP General Provisions (40 CFR part 63, subpart A), which are mandatory for all operators subject to NESHAP. These recordkeeping and reporting requirements are specifically authorized by section 114 of the CAA (42 U.S.C. 7414). All information submitted to EPA pursuant to the recordkeeping and reporting requirements for which a claim of confidentiality is made is safeguarded according to EPA's policies set forth in 40 CFR part 2, subpart B.

The final rule will require maintenance inspections of the control devices but will not require any notifications or reports beyond those required by the NESHAP General Provisions. The recordkeeping requirements require only the specific information needed to determine compliance.

The annual public reporting and recordkeeping burden for this collection of information (averaged over the first 3 years after the effective date of the final rule) is estimated to be approximately 1,390 labor hours per year, at a total annual cost of approximately $65,300. This burden estimate includes the cost to install and operate the weight measurement device; one-time submission of a startup, shutdown, and malfunction plan, with semiannual reports for any event when the procedures in the plan were not followed; semiannual compliance reports; maintenance inspections; notifications; and recordkeeping. Total capital/startup costs associated with the recordkeeping requirements over the 3-year period of the ICR are estimated at approximately $940, with operation and maintenance costs of approximately $250/yr.

Burden means the total time, effort, or financial resources expended by persons to generate, maintain, retain, or disclose or provide information to or for a Federal agency. This includes the time needed to: (1) Review instructions; (2) develop, acquire, install, and utilize technology and systems for the purposes of collecting, validating, and verifying information, processing and maintaining information, and disclosing and providing information; (3) adjust the existing ways to comply with any previously applicable instructions and requirements; (4) train personnel to be able to respond to a collection of information; (5) search existing data sources; (6) complete and review the collection of information; and (7) transmit or otherwise disclose the information.

An Agency may not conduct or sponsor, and a person is not required to respond to, a collection of information unless it displays a currently valid OMB control number. The OMB control numbers for EPA's regulations are listed in 40 CFR part 9 and 48 CFR chapter 15.

I. National Technology Transfer and Advancement Act of 1995

Section 12(d) of the National Technology Transfer and Advancement Act of 1995 (NTTAA) Public Law 104-113 (15 U.S.C. 272 note) directs all Federal agencies to use voluntary consensus standards instead of government-unique standards in their regulatory and procurement activities, unless to do so would be inconsistent with applicable law or otherwise impractical. Voluntary consensus standards are technical standards (e.g., materials specifications, test methods, sampling procedures, business practices) developed or adopted by one or more voluntary consensus bodies. Examples of organizations generally regarded as voluntary consensus standards bodies include the American Society for Testing and Materials (ASTM), American Society of Mechanical Engineers (ASME), National Fire Protection Association (NFPA), and Society of Automotive Engineers (SAE). The NTTAA requires Federal agencies to provide Congress, through annual reports to OMB, with explanations when an agency does not use available and applicable voluntary consensus standards.

This rulemaking involves a technical standard. The EPA is promulgating test methods based on the weighing portion of EPA Method 28 (section 10.1) for weighing of recovered solvent. Consistent with the NTTAA, EPA conducted searches to identify voluntary consensus standards that could be used in addition to this EPA method. The search for emissions measurement procedures identified two voluntary consensus standards potentially applicable to this final rule. However, after reviewing the available standards, EPA determined that these two standards, identified for measuring recovered solvent on a scale, were impractical alternatives to the EPA test methods for the purposes of today's final rule. Therefore, EPA does not intend to adopt these standards for this purpose.

The voluntary consensus standard ASTM E319-85 (Reapproved 1997), “Standard Practice for the Evaluation of Single-Pan Mechanical Balances,” is impractical for the purposes of this rulemaking primarily because this standard is not a complete weighing procedure because it does not include a pretest procedure.

The voluntary consensus standard ASME Power Test Codes, “Supplement on Instruments and Apparatus, part 5, Measurement of Quantity of Materials, Chapter 1, Weighing Scales,” is impractical for the purposes of this rulemaking because it does not specify the number of initial calibration weights to be used nor a specific pretest weight procedure.

Section 63.9525 to subpart QQQQQ lists the testing procedures included in today's final rule. Under § 63.8 of the NESHAP General Provisions, a source may apply to EPA for permission to use an alternative method in place of any of the EPA testing methods.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until December 17, 2002. This action is not a “major rule” as defined by 5 U.S.C. 804(2).

List of Subjects in 40 CFR Part 63

Environmental protection, Administrative practice and procedure, Air pollution control, Hazardous substances, Intergovernmental relations, Reporting and recordkeeping requirements.

Dated: October 9, 2002.
Christine Todd Whitman,
Administrator.

For the reasons stated in the preamble, title 40, chapter I, part 63 of the Code of Federal Regulations is amended as follows:

PART 63—[AMENDED]

1. The authority citation for part 63 continues to read as follows:

Authority: 42 U.S.C. 7401, et seq.

2. Part 63 is amended by adding subpart QQQQQ to read as follows:

Subpart QQQQQ—National Emission Standards for Hazardous Air Pollutants for Friction Materials Manufacturing Facilities

What This Subpart Covers

Sec.
63.9480 What is the purpose of this subpart?
63.9485 Am I subject to this subpart?
63.9490 What parts of my plant does this subpart cover?
63.9495 When do I have to comply with this subpart?
Emission Limitations
63.9500 What emission limitations must I meet?
General Compliance Requirements
63.9505 What are my general requirements for complying with this subpart?
Initial Compliance Demonstration Requirements
63.9510 By what date must I conduct my initial compliance demonstration?
63.9515 How do I demonstrate initial compliance with the emission limitation that applies to me?
63.9520 What procedures must I use to demonstrate initial compliance?
63.9525 What are the installation, operation, and maintenance requirements for my weight measurement device?
Continuous Compliance Requirements
63.9530 How do I demonstrate continuous compliance with the emission limitation that applies to me?
Notifications, Reports, and Records
63.9535 What notifications must I submit and when?
63.9540 What reports must I submit and when?
63.9545 What records must I keep?
63.9550 In what form and how long must I keep my records?
Other Requirements and Information
63.9555 What parts of the General Provisions apply to me?
63.9560 Who implements and enforces this subpart?
63.9565 What definitions apply to this subpart?
63.9570 How do I apply for alternative compliance requirements?
63.9571-63.9579 [Reserved]

Table

Table 1 to Subpart QQQQQ—Applicability of General Provisions to Subpart QQQQQ

Subpart QQQQQ—National Emission Standards for Hazardous Air Pollutants for Friction Materials Manufacturing Facilities

What This Subpart Covers

§ 63.9480 What is the purpose of this subpart?

This subpart establishes national emission standards for hazardous air pollutants (NESHAP) for friction materials manufacturing facilities that use a solvent-based process. This subpart also establishes requirements to demonstrate initial and continuous compliance with all applicable emission limitations in this subpart.

§ 63.9485 Am I subject to this subpart?

(a) You are subject to this subpart if you own or operate a friction materials manufacturing facility (as defined in § 63.9565) that is (or is part of) a major source of hazardous air pollutants (HAP) emissions on the first compliance date that applies to you, as specified in § 63.9495. Your friction materials manufacturing facility is a major source of HAP if it emits or has the potential to emit any single HAP at a rate of 9.07 megagrams (10 tons) or more per year or any combination of HAP at a rate of 22.68 megagrams (25 tons) or more per year.

(b) The requirements in this subpart do not apply to research and development facilities, as defined in section 112(c)(7) of the Clean Air Act.

§ 63.9490 What parts of my plant does this subpart cover?

(a) This subpart applies to each new, reconstructed, or existing affected source at your friction materials manufacturing facility.

(b) The affected source covered by this subpart is each new, reconstructed, or existing solvent mixer (as defined in § 63.9565) at your friction materials manufacturing facility.

(c) A solvent mixer at your friction materials manufacturing facility is new if you commence construction of the solvent mixer after October 18, 2002. An affected source is reconstructed if it meets the definition of “reconstruction” in § 63.2, and reconstruction is commenced after October 18, 2002.

(d) A solvent mixer at your friction materials manufacturing facility is existing if it is not new or reconstructed.

§ 63.9495 When do I have to comply with this subpart?

(a) If you have an existing solvent mixer, you must comply with each of the requirements for existing sources no later than October 18, 2005.

(b) If you have a new or reconstructed solvent mixer and its initial startup date is after October 18, 2002, you must comply with the requirements for new and reconstructed sources upon initial startup.

(c) If your friction materials manufacturing facility is an area source that increases its emissions or its potential to emit such that it becomes a (or part of a) major source of HAP emissions, then paragraphs (c)(1) and (2) of this section apply.

(1) For any portion of the area source that becomes a new or reconstructed affected source, you must comply with the requirements for new and reconstructed sources upon startup or no later than October 18, 2002, whichever is later.

(2) For any portion of the area source that becomes an existing affected source, you must comply with the requirements for existing sources no later than 1 year after the area source becomes a major source or no later than October 18, 2005, whichever is later.

(d) You must meet the notification and schedule requirements in § 63.9535. Several of the notifications must be submitted before the compliance date for your affected source.

Emission Limitations

§ 63.9500 What emission limitations must I meet?

(a) For each new, reconstructed, or existing large solvent mixer at your friction materials manufacturing facility, you must limit HAP solvent emissions to the atmosphere to no more than 30 percent of that which would otherwise be emitted in the absence of solvent recovery and/or solvent substitution, based on a 7-day block average.

(b) For each new, reconstructed, or existing small solvent mixer at your friction materials manufacturing facility, you must limit HAP solvent emissions to the atmosphere to no more than 15 percent of that which would otherwise be emitted in the absence of solvent recovery and/or solvent substitution, based on a 7-day block average.

General Compliance Requirements

§ 63.9505 What are my general requirements for complying with this subpart?

(a) You must be in compliance with the emission limitation in this subpart at all times, except during periods of startup, shutdown, or malfunction.

(b) You must always operate and maintain your affected source, including air pollution control and monitoring equipment, according to the provisions in § 63.6(e)(1)(i).

(c) You must develop and implement a written startup, shutdown, and malfunction plan according to the provisions in § 63.6(e)(3).

Initial Compliance Demonstration Requirements

§ 63.9510 By what date must I conduct my initial compliance demonstration?

(a) If you use a solvent recovery system and/or solvent substitution, you must conduct your initial compliance demonstration within 7 calendar days after the compliance date that is specified for your source in § 63.9495.

(b) If you use a control technique other than a solvent recovery system and/or solvent substitution, you must comply with the provisions in § 63.9570.

§ 63.9515 How do I demonstrate initial compliance with the emission limitation that applies to me?

(a) You have demonstrated initial compliance for each new, reconstructed, or existing large solvent mixer subject to the emission limitation in § 63.9500(a) if the HAP solvent discharged to the atmosphere during the first 7 days after the compliance date, determined according to the provisions in § 63.9520, does not exceed a 7-day block average of 30 percent of that which would otherwise be emitted in the absence of solvent recovery and/or solvent substitution.

(b) You have demonstrated initial compliance for each new, reconstructed, or existing small solvent mixer subject to the emission limitation in § 63.9500(b) if the HAP solvent discharged to the atmosphere during the first 7 days after the compliance date, determined according to the provisions in § 63.9520, does not exceed a 7-day block average of 15 percent of that which would otherwise be emitted in the absence of solvent recovery and/or solvent substitution.

(c) You must submit a notification of compliance status containing the results of the initial compliance demonstration according to § 63.9535(e).

§ 63.9520 What procedures must I use to demonstrate initial compliance?

(a) If you use a solvent recovery system, you must use the procedures in paragraphs (a)(1) through (8) of this section to demonstrate initial compliance with the emission limitations in § 63.9500(a) and (b).

(1) Record the date and time of each mix batch.

(2) Record the identity of each mix batch using a unique batch ID, as defined in § 63.9565.

(3) Measure and record the weight of HAP solvent loaded into the solvent mixer for each mix batch.

(4) Measure and record the weight of HAP solvent recovered for each mix batch.

(5) If you use a solvent recovery system, you must determine the percent of HAP solvent discharged to the atmosphere for each mix batch according to Equation 1 of this section as follows: (Eq. 1)

Where:

Pb = Percent of HAP solvent discharged to the atmosphere for each mix batch, percent;

Srec = Weight of HAP solvent recovered for each mix batch, lb;

Smix = Weight of HAP solvent loaded into the solvent mixer for each mix batch, lb.

(6) If you use solvent substitution for a mix batch, you must record the use of a non-HAP material as a substitute for a HAP solvent for that mix batch and assign a value of 0 percent to the percent of HAP solvent discharged to the atmosphere for that mix batch (Pb).

(7) Determine the 7-day block average percent of HAP solvent discharged to the atmosphere according to Equation 2 of this section as follows:

Where:

%P7 = 7-day block average percent of HAP solvent discharged to the atmosphere, percent;

i = mix batch;

n = number of mix batches in 7-day block average.

(8) Have valid data for at least 90 percent of the mix batches over the 7-day averaging period.

(b) If you use a control technique other than a solvent recovery system and/or solvent substitution, you may apply to EPA for approval to use an alternative method of demonstrating compliance with the emission limitations for solvent mixers in § 63.9500(a) and (b), as provided in § 63.9570.

§ 63.9525 What are the installation, operation, and maintenance requirements for my weight measurement device?

(a) If you use a solvent recovery system, you must install, operate, and maintain a weight measurement device to measure the weight of HAP solvent loaded into the solvent mixer and the weight of HAP solvent recovered for each mix batch.

(b) For each weight measurement device required by this section, you must develop and submit for approval a site-specific monitoring plan that addresses the requirements of paragraphs (b)(1) through (6) of this section:

(1) Procedures for installing the weight measurement device;

(2) The minimum accuracy of the weight measurement device in pounds and as a percent of the average weight of solvent to be loaded into the solvent mixer;

(3) Site-specific procedures for how the measurements will be made;

(4) How the measurement data will be recorded, reduced, and stored;

(5) Procedures and acceptance criteria for calibration of the weight measurement device; and

(6) How the measurement device will be maintained, including a routine maintenance schedule and spare parts inventory list.

(c) The site-specific monitoring plan required in paragraph (b) of this section must include, at a minimum, the requirements of paragraphs (c)(1) through (3) of this section:

(1) The weight measurement device must have a minimum accuracy of ±0.05 kilograms (±0.1 pounds) or ±1 percent of the average weight of solvent to be loaded into the solvent mixer, whichever is greater.

(2) An initial multi-point calibration of the weight measurement device must be made using 5 points spanning the expected range of weight measurements before the weight measurement device can be used. The manufacturer's calibration results can be used to meet this requirement.

(3) Once per day, an accuracy audit must be made using a single Class F calibration weight that corresponds to 20 to 80 percent of the average weight of solvent to be loaded into the solvent mixer. If the weight measurement device cannot reproduce the value of the calibration weight within ±0.05 kilograms (0.1 pounds) or ±1 percent of the average weight of solvent to be loaded into the solvent mixer, whichever is greater, the scale must be recalibrated before being used again. The recalibration must be performed with at least five Class F calibration weights spanning the expected range of weight measurements.

(d) You must operate and maintain the weight measurement device according to the site-specific monitoring plan.

(e) You must maintain records of all maintenance activities, calibrations, and calibration audits.

Continuous Compliance Requirements

§ 63.9530 How do I demonstrate continuous compliance with the emission limitation that applies to me?

(a) If you use a solvent recovery system and/or solvent substitution, you must demonstrate continuous compliance with the emission limitations for solvent mixers in § 63.9500(a) and (b) according to the provisions in paragraphs (a)(1) through (3) of this section.

(1) Except for during malfunctions of your weight measurement device and associated repairs, you must collect and record the information required in § 63.9520(a)(1) through (8) at all times that the affected source is operating and record all information needed to document conformance with these requirements.

(2) For new, reconstructed, or existing large solvent mixers, maintain the 7-day block average percent of HAP solvent discharged to the atmosphere at or below 30 percent of that which would otherwise be emitted in the absence of solvent recovery and/or solvent substitution.

(3) For new, reconstructed, or existing small solvent mixers, maintain the 7-day block average percent of HAP solvent discharged to the atmosphere at or below 15 percent of that which would otherwise be emitted in the absence of solvent recovery and/or solvent substitution.

(b) If you use a control technique other than a solvent recovery system and/or solvent substitution, you must demonstrate continuous compliance with the emission limitations for solvent mixers in § 63.9500(a) and (b) according to the provisions in § 63.9570.

(c) You must report each instance in which you did not meet the emission limitations for solvent mixers in § 63.9500(a) and (b). This includes periods of startup, shutdown, or malfunction. These instances are deviations from the emission limitations in this subpart. These deviations must be reported according to the requirements in § 63.9540.

(d) During periods of startup, shutdown, or malfunction, you must operate in accordance with your startup, shutdown, and malfunction plan.

(e) Consistent with §§ 63.6(e) and 63.7(e)(1), deviations that occur during a period of startup, shutdown, or malfunction are not violations if you demonstrate to the Administrator's satisfaction that you were operating in accordance with the startup, shutdown, and malfunction plan. The Administrator will determine whether deviations that occur during a period of startup, shutdown, or malfunction are violations, according to the provisions in § 63.6(e).

Notifications, Reports, and Records

§ 63.9535 What notifications must I submit and when?

(a) You must submit all of the notifications in §§ 63.8(f)(4) and 63.9(b), (c), (d), and (h) that apply to you by the specified dates.

(b) If you use a control technique other than a solvent recovery system and/or solvent substitution, you must comply with the provisions in § 63.9570.

(c) As specified in § 63.9(b)(2), if you start up your affected source before October 18, 2002, you must submit your initial notification no later than 120 calendar days after October 18, 2002.

(d) As specified in § 63.9(b)(3), if you start up your new affected source on or after October 18, 2002, you must submit your initial notification no later than 120 calendar days after you become subject to this subpart.

(e) You must submit a notification of compliance status according to § 63.9(h)(2)(ii). You must submit the notification of compliance status before the close of business on the 30th calendar day following the completion of the initial compliance demonstration.

§ 63.9540 What reports must I submit and when?

(a) Unless the Administrator has approved a different schedule, you must submit each semiannual compliance report according to the requirements in paragraphs (a)(1) through (5) of this section.

(1) The first compliance report must cover the period beginning on the compliance date that is specified for your affected source in § 63.9495 and ending on June 30 or December 31, whichever date comes first after the compliance date that is specified for your source in § 63.9495.

(2) The first compliance report must be postmarked or delivered no later than July 31 or January 31, whichever date comes first after your first compliance report is due.

(3) Each subsequent compliance report must cover the semiannual reporting period from January 1 through June 30 or the semiannual reporting period from July 1 through December 31.

(4) Each subsequent compliance report must be postmarked or delivered no later than July 31 or January 31, whichever date comes first after the end of the semiannual reporting period.

(5) For each affected source that is subject to permitting regulations pursuant to 40 CFR part 70 or 71 of this chapter, and if the permitting authority has established dates for submitting semiannual reports pursuant to 40 CFR 70.6(a)(3)(iii)(A) or 40 CFR 71.6(a)(3)(iii)(A) of this chapter, you may submit the first and subsequent compliance reports according to the dates the permitting authority has established instead of according to the dates in paragraphs (a)(1) through (4) of this section.

(b) Each compliance report must include the information in paragraphs (b)(1) through (3) of this section, and if applicable, paragraphs (b)(4) through (6) of this section.

(1) Company name and address.

(2) Statement by a responsible official, with the official's name, title, and signature, certifying that, based on information and belief formed after reasonable inquiry, the statements and information in the report are true, accurate, and complete.

(3) Date of report and beginning and ending dates of the reporting period.

(4) If you had a startup, shutdown, or malfunction during the reporting period and you took actions consistent with your startup, shutdown, and malfunction plan, the compliance report must include the information in § 63.10(d)(5)(i).

(5) If there were no deviations from the emission limitations for solvent mixers in § 63.9500(a) and (b), a statement that there were no deviations from the emission limitations during the reporting period.

(6) If there were no periods during which a monitoring system was out-of-control as specified in § 63.8(c)(7), a statement that there were no periods during which a monitoring system was out-of-control during the reporting period.

(c) For each deviation from an emission limitation occurring at an affected source, you must include the information in paragraphs (b)(1) through (4) and (c)(1) and (2) of this section. This includes periods of startup, shutdown, or malfunction.

(1) The total operating time of each affected source during the reporting period.

(2) Information on the number, duration, and cause of deviations (including unknown cause, if applicable), as applicable, and the corrective action taken.

(d) If you had a startup, shutdown, or malfunction during the semiannual reporting period that was not consistent with your startup, shutdown, and malfunction plan, you must submit an immediate startup, shutdown, and malfunction report according to the requirements in § 63.10(d)(5)(ii).

(e) If you have obtained a title V operating permit for an affected source pursuant to 40 CFR part 70 or 71 of this chapter, you must report all deviations as defined in this subpart in the semiannual monitoring report required by 40 CFR 70.6(a)(3)(iii)(A) or 40 CFR 71.6(a)(3)(iii)(A) of this chapter. If you submit a compliance report for an affected source along with, or as part of, the semiannual monitoring report required by 40 CFR 70.6(a)(3)(iii)(A) or 40 CFR 71.6(a)(3)(iii)(A) of this chapter, and the compliance report includes all the required information concerning deviations from any emission limitation in this subpart, then submission of the compliance report satisfies any obligation to report the same deviations in the semiannual monitoring report. However, submission of a compliance report does not otherwise affect any obligation you may have to report deviations from permit requirements to your permitting authority.

§ 63.9545 What records must I keep?

(a) You must keep the records in paragraphs (a)(1) and (2) of this section that apply to you.

(1) A copy of each notification and report that you submitted to comply with this subpart, including all documentation supporting any initial notification or notification of compliance status that you submitted, according to the requirements in § 63.10(b)(2)(xiv).

(2) The records in § 63.6(e)(3)(iii) through (v) related to startup, shutdown, or malfunction.

(b) You must keep the records required in § 63.9525 to show proper operation and maintenance of the weight measurement device.

(c) You must keep the records required in § 63.9530 to show continuous compliance with the emission limitations for solvent mixers in § 63.9500(a) and (b).

§ 63.9550 In what form and how long must I keep my records?

(a) You must keep your records in a form suitable and readily available for expeditious review, according to § 63.10(b)(1).

(b) As specified in § 63.10(b)(1), you must keep each record for 5 years following the date of each occurrence, measurement, maintenance, corrective action, report, or record.

(c) You must keep each record on site for at least 2 years after the date of each occurrence, measurement, maintenance, corrective action, report, or record, according to § 63.10(b)(1). You can keep the records offsite for the remaining 3 years.

Other Requirements and Information

§ 63.9555 What parts of the General Provisions apply to me?

Table 1 to this subpart shows which parts of the General Provisions in §§ 63.1 through 63.15 apply to you.

§ 63.9560 Who implements and enforces this subpart?

(a) This subpart can be implemented and enforced by the U.S. EPA, or a delegated authority such as your State, local, or tribal agency. If the U.S. EPA Administrator has delegated authority to your State, local, or tribal agency, then that agency, in addition to the U.S. EPA, has the authority to implement and enforce this subpart. You should contact your U.S. EPA Regional Office to find out if this subpart is delegated to your State, local, or tribal agency.

(b) In delegating implementation and enforcement authority of this subpart to a State, local, or tribal agency under 40 CFR part 63, subpart E, the authorities contained in paragraphs (c)(1) through (4) of this section are retained by the Administrator of the U.S. EPA and are not transferred to the State, local, or tribal agency.

(c) The authorities that cannot be delegated to State, local or tribal agencies are as follows:

(1) Approval of alternatives to the emission limitations in § 63.9500(a) and (b) under § 63.6(g).

(2) Approval of major alternatives to test methods under § 63.7(e)(2)(ii) and (f) and as defined in § 63.90.

(3) Approval of major alternatives to monitoring under § 63.8(f) and as defined in § 63.90.

(4) Approval of major alternatives to recordkeeping and reporting under § 63.10(f) and as defined in § 63.90.

§ 63.9565 What definitions apply to this subpart?

Terms used in this subpart are defined in the Clean Air Act, in § 63.2, and in this section as follows:

Batch ID means a unique identifier used to differentiate each individual mix batch.

Deviation means any instance in which an affected source subject to this subpart, or an owner or operator of such a source:

(1) Fails to meet any requirement or obligation established by this subpart, including, but not limited to, any emission limitation (including any operating limit);

(2) Fails to meet any term or condition that is adopted to implement an applicable requirement in this subpart and that is included in the operating permit for any affected source required to obtain such a permit; or

(3) Fails to meet any emission limitation (including any operating limit) in this subpart during startup, shutdown, or malfunction, regardless of whether or not such failure is permitted by this subpart.

Friction ingredients means any of the components used in the manufacture of friction materials, excluding the HAP solvent. Friction ingredients include, but are not limited to, reinforcement materials, property modifiers, resins, and other additives.

Friction materials manufacturing facility means a facility that manufactures friction materials using a solvent-based process. Friction materials are used in the manufacture of products used to accelerate or decelerate objects. Products that use friction materials include, but are not limited to, disc brake pucks, disc brake pads, brake linings, brake shoes, brake segments, brake blocks, brake discs, clutch facings, and clutches.

HAP solvent means a solvent that contains 10 percent or more of any one HAP, as listed in section 112(b) of the Clean Air Act, or any combination of HAP that is added to a solvent mixer. Examples include hexane, toluene, and trichloroethylene.

Initial startup means the first time that equipment is put into operation. Initial startup does not include operation solely for testing equipment. Initial startup does not include subsequent startups (as defined in this section) following malfunction or shutdowns or following changes in product or between batch operations.

Large solvent mixer means a solvent mixer with a design capacity greater than or equal to 2,000 pounds, including friction ingredients and HAP solvent.

Mix batch means each batch of friction materials manufactured in a solvent mixer.

Responsible official means responsible official as defined in § 63.2.

7-day block average means an averaging technique for a weekly compliance determination where the calculated values for percent HAP solvent discharged to the atmosphere are averaged together for all mix batches (for which there are valid data) in a 7-day block period according to the equation provided in § 63.9520(a)(6).

Small solvent mixer means a solvent mixer with a design capacity less than 2,000 pounds, including friction ingredients and HAP solvent.

Solvent mixer means a mixer used in the friction materials manufacturing process in which HAP solvent is used as one of the ingredients in at least one batch during a semiannual reporting period. Trace amounts of HAP solvents in resins or other friction ingredients do not qualify mixers as solvent mixers.

Solvent recovery system means equipment used for the purpose of recovering the HAP solvent from the exhaust stream. An example of a solvent recovery system is a condenser.

Solvent substitution means substitution of a non-HAP material for a HAP solvent.

Startup means bringing equipment online and starting the production process.

Startup, shutdown, and malfunction plan means a plan developed according to the provisions of § 63.6(e)(3).

§ 63.9570 How do I apply for alternative compliance requirements?

(a) If you use a control technique other than a solvent recovery system and/or solvent substitution, you may request approval to use an alternative method of demonstrating compliance with the emission limitations in § 63.9500(a) and (b) according to the procedures in this section.

(b) You can request approval to use an alternative method of demonstrating compliance in the initial notification for existing sources, the notification of construction or reconstruction for new sources, or at any time.

(c) You must submit a description of the proposed testing, monitoring, recordkeeping, and reporting that will be used and the proposed basis for demonstrating compliance.

(1) If you have not previously performed testing, you must submit a proposed test plan. If you are seeking permission to use an alternative method of compliance based on previously performed testing, you must submit the results of testing, a description of the procedures followed in testing, and a description of pertinent conditions during testing.

(2) You must submit a monitoring plan that includes a description of the control technique, test results verifying the performance of the control technique, the appropriate operating parameters that will be monitored, and the frequency of measuring and recording to establish continuous compliance with the emission limitations in § 63.9500(a) and (b). You must also include the proposed performance specifications and quality assurance procedures for the monitors. The monitoring plan is subject to the Administrator's approval. You must install, calibrate, operate, and maintain the monitors in accordance with the monitoring plan approved by the Administrator.

(d) Use of the alternative method of demonstrating compliance must not begin until approval is granted by the Administrator.

§§ 63.9571-63.9579 [Reserved]

Table 1 to Subpart QQQQQ—Applicability of General Provisions to Subpart QQQQQ
[As required in § 63.9505, you must comply with each applicable General Provisions requirement according to the following table]
Citation | Subject | Applies to subpart QQQQQ? | Explanation
§ 63.1 | Applicability | Yes
§ 63.2 | Definitions | Yes
§ 63.3 | Units and Abbreviations | Yes
§ 63.4 | Prohibited Activities | Yes
§ 63.5 | Construction/Reconstruction | Yes
§ 63.6(a)-(c), (e)-(f), (i)-(j) | Compliance with Standards and Maintenance Requirements | Yes
§ 63.6(d) | [Reserved]
§ 63.6(g) | Use of an Alternative Nonopacity Emission Standard | No | Subpart QQQQQ contains no work practice standards.
§ 63.6(h) | Compliance with Opacity and Visible Emission Standards | No | Subpart QQQQQ contains no opacity or VE limits.
§ 63.7(a)(1)-(2) | Applicability and Performance Test Dates | No | Subpart QQQQQ includes dates for initial compliance demonstrations.
§ 63.7(a)(3), (b)-(h) | Performance Testing Requirements | No | Subpart QQQQQ does not require performance tests.
§ 63.8(a)(1)-(2), (b), (c)(1)-(3), (f)(1)-(5) | Monitoring Requirements | Yes
§ 63.8(a)(3) | [Reserved]
§ 63.8(a)(4) | Additional Monitoring Requirements for Control Devices in § 63.11 | No | Subpart QQQQQ does not require flares.
§ 63.8(c)(4) | Continuous Monitoring System (CMS) Requirements | No | Subpart QQQQQ does not require CMS.
§ 63.8(c)(5) | Continuous Opacity Monitoring System (COMS) Minimum Procedures | No | Subpart QQQQQ does not require COMS.
§ 63.8(c)(6) | Zero and High Level Calibration Check Requirements | No | Subpart QQQQQ specifies calibration requirements.
§ 63.8(c)(7)-(8) | Out-of-Control Periods | No | Subpart QQQQQ specifies out-of-control periods and reporting requirements.
§ 63.8(d) | CMS Quality Control | No | Subpart QQQQQ requires a monitoring plan that specifies CMS quality control procedures.
§ 63.8(e) | CMS Performance Evaluation | No | Subpart QQQQQ does not require CMS performance evaluations.
§ 63.8(f)(6) | Relative Accuracy Test Audit (RATA) Alternative | No | Subpart QQQQQ does not require continuous emissions monitoring systems (CEMS).
§ 63.8(g)(1)-(5) | Data Reduction | No | Subpart QQQQQ specifies data reduction requirements.
§ 63.9(a)-(d), (h)-(j) | Notification Requirements | Yes | Except that subpart QQQQQ does not require performance tests or CMS performance evaluations.
§ 63.9(e) | Notification of Performance Test | No | Subpart QQQQQ does not require performance tests.
§ 63.9(f) | Notification of VE/Opacity Test | No | Subpart QQQQQ contains no opacity or VE limits.
§ 63.9(g) | Additional Notifications When Using CMS | No | Subpart QQQQQ does not require CMS performance evaluations.
§ 63.10(a), (b), (d)(1), (d)(4)-(5), (e)(3), (f) | Recordkeeping and Reporting Requirements | Yes
§ 63.10(c)(1)-(6), (9)-(15) | Additional Records for CMS | No | Subpart QQQQQ specifies record requirements.
§ 63.10(c)(7)-(8) | Records of Excess Emissions and Parameter Monitoring Exceedances for CMS | No | Subpart QQQQQ specifies record requirements.
§ 63.10(d)(2) | Reporting Results of Performance Tests | No | Subpart QQQQQ does not require performance tests.
§ 63.10(d)(3) | Reporting Opacity or VE Observations | No | Subpart QQQQQ contains no opacity or VE limits.
§ 63.10(e)(1)-(2) | Additional CMS Reports | No | Subpart QQQQQ does not require CMS.
§ 63.10(e)(4) | Reporting COMS Data | No | Subpart QQQQQ does not require COMS.
§ 63.11 | Control Device Requirements | No | Subpart QQQQQ does not require flares.
§§ 63.12-63.15 | Delegation, Addresses, Incorporation by Reference Availability of Information | Yes

[FR Doc. 02-26309 Filed 10-17-02; 8:45 am]

BILLING CODE 6560-50-P